COMMISSION ON CIVIL RIGHTS

Notice of Public Meeting of the Texas Advisory Committee; Correction

AGENCY: Commission on Civil Rights.

ACTION: Notice; revision to meeting date.

SUMMARY: The Commission on Civil Rights published a notice in the Federal Register on Tuesday, August 23, 2022, concerning a meeting of the Texas Advisory Committee. The meeting date has since changed.

FOR FURTHER INFORMATION CONTACT: Brooke Peery, bpeery@usccr.gov, (202) 701-1376.

SUPPLEMENTARY INFORMATION: Correction: In the Federal Register on Tuesday, August 23, 2022, in FR Document Number 2022-18088, on page 51650, first column, change the October 4, 2022, meeting date to September 29, 2022. The meeting time will remain the same: 1 p.m.-2 p.m. CT. In addition, the link to join will remain the same: https://www.zoomgov.com/meeting/register/vJItceytrTgpGN98b1Xe5v7Q0AgE-qEubLI.

Dated: September 9, 2022.
David Mussatt,
Supervisory Chief, Regional Programs Unit.

[FR Doc. 2022-19866 Filed 9-13-22; 8:45 am]

BILLING CODE P